FEDERAL COMMUNICATIONS COMMISSION

Network Reliability and Interoperability Council

AGENCY: Federal Communications Commission.

ACTION: Notice of meeting.

SUMMARY: In accordance with the Federal Advisory Committee Act, this notice advises interested persons of the first meeting of the Network Reliability and Interoperability Council (Council) under its charter renewed as of January 6, 2000. The meeting will be held at the Federal Communications Commission in Washington, DC.

DATES: Monday, March 20, 2000 at 10 a.m. to 12:30 p.m. Publication of this notice was delayed due to the unforeseen urgency of setting the earliest possible meeting date so that necessary participants could be present.

ADDRESSES: Federal Communications Commission, 445 12th St. S.W. Room TW-C305, Washington, DC.

FOR FURTHER INFORMATION CONTACT: Robert Kimball at 202-418-2339 or TTY 202-418-2989.

SUPPLEMENTARY INFORMATION: The Council was established by the Federal Communications Commission to bring together leaders of the telecommunications industry and telecommunications experts from academic, consumer and other organizations to explore and recommend measures that would enhance network reliability.

The Council will consider a report on the success of its efforts to ameliorate the possible effects of the year 2000 date change on communications networks, and will also consider reports from the network reliability working groups. In addition, the Council will discuss the modifications that have been made to the Council's charter and how those modifications should be addressed, and any additional issues that may come before it.

Members of the general public may attend the meeting. The Federal Communications Commission will attempt to accommodate as many people as possible. Admittance, however, will be limited to the seating available. The public may submit written comments before the meeting to Kent Nilsson, the Commission's Designated Federal Officer for the Network Reliability and Interoperability Council, by email (KNILSSON@FCC.GOV) or U.S. mail (7-B452, 445 12th St. SW, Washington, DC. 20554). Real Audio and streaming video Access to the meeting will be available at http://www.fcc.gov/.

Federal Communications Commission.
William F. Caton,
Deputy Secretary.

[FR Doc. 00-5900 Filed 3-9-00; 8:45 am]

BILLING CODE 6712-01-U